DEPARTMENT OF JUSTICE

Notice of Lodging of Proposed Partial Consent Decree Under the Clean Water Act

On July 19, 2017, the Department of Justice lodged a proposed Partial Consent Decree with the United States District Court for the Northern District of Ohio in the lawsuit entitled United States v. The City of Cleveland Heights, Ohio and The State of Ohio, Civil Action No. 17-cv-1517.

The United States filed this lawsuit under the Clean Water Act. The United States' complaint alleges that the City of Cleveland Heights, Ohio violated the Clean Water Act and the City's stormwater permit by allowing discharges of untreated sanitary sewage into local streams flowing to Lake Erie. The complaint seeks injunctive relief and civil penalties. The State of Ohio is named as a defendant solely to satisfy Section 309(e) of the Clean Water Act 33 U.S.C. 1319(e).

The Partial Consent Decree requires Cleveland Heights to perform a comprehensive study of its sewer system and submit a plan, for EPA approval, to eliminate sanitary sewer overflows. The agreement also requires certain early action projects to reduce sanitary sewage overflows and improvements to the City's sewer system operations. The Partial Consent Decree does not resolve the United States' claims. The schedule for implementing the approved plan and the civil penalty for the City's violations will be established separately.

The publication of this notice opens a period for public comment on the Partial Consent Decree. Comments should be addressed to the Assistant Attorney General, Environment and Natural Resources Division, and should refer to United States v. The City of Cleveland Heights, Ohio and The State of Ohio, D.J. Ref. No. 90-5-1-1-10457. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Partial Consent Decree may be examined and downloaded at this Justice Department Web site: http://www.justice.gov/enrd/consent-decrees. We will provide a paper copy of the Partial Consent Decree upon written request and payment of reproduction costs. Please mail your request and payment to: Consent Decree Library, U.S. DOJ—ENRD, P.O. Box 7611, Washington, DC 20044-7611.

Please enclose a check or money order for $22.75 (25 cents per page reproduction cost) payable to the United States Treasury. For a paper copy without the exhibits and signature pages, the cost is $12.25.

Randall M. Stone,
Acting Assistant Section Chief, Environmental Enforcement Section, Environment and Natural Resources Division.

[FR Doc. 2017-15450 Filed 7-21-17; 8:45 am]

BILLING CODE 4410-15-P